AGENCY FOR INTERNATIONAL DEVELOPMENT

Notice of Public Information Collection Requirements Submitted to OMB for Review

Summary: U.S. Agency for International Development (USAID) has submitted the following information collections to OMB for review and clearance under the Paperwork Reduction Act of 1995, Public Law 104-13. Comments regarding this information collection are best assured of having their full effect if received within 30 days of this notification. Comments should be sent via email to David_Rostker@omb.eop.gov or fax to 202-395-7285. Copies of submission may be obtained by calling (202) 712-1365.

Supplementary Information:

OMB Number: OMB 0412-NEW.

Form Number: N/A.

Title: Minority Serving Institution Database.

Type of Submission: New Information Collection.

Purpose: The U.S. Agency for International Development (USAID) requests comment on its proposal to expand its existing automated Extranet database to include voluntary registration of U.S. Minority Serving Institutions (MSIs). The existing application, the Small Business Resource Database (SBRD) was placed into production at the beginning of Fiscal Year 2004. Small and Small and Disadvantaged Business interested in pursuing contracts with USAID may register with the Agency on a voluntary basis. These data are then made available via a secure Extranet conduit to Agency Program, Technical and Contact Officers worldwide. The Agency experienced a significant improvement in the amount of contracting with these entities in Fiscal Year 2004, versus USAID's performance in 2003, and in comparison to the averages for the Executive Branch of the Federal government. The Agency's performance in this regard is published at the following URL: http://www.sba.gov/GC/goals/Goaling-Report-08-21-2005.pdf.

USAID proposes to capture the voluntary registration of Minority Serving Institutions (MSIs), who may be interested in pursuing grants with USAID in furtherance of the Agency's international development initiatives. The existing SBRD application, and the Extranet conduit for disseminating these data within USAID would be utilized for this purpose. This action would further the grant-making process and potentially benefit several of the three hundred and fifty-one U.S. MSIs. Additional information regarding the SBRD, which is presently in production, without the proposed expanded registration capability, may be reviewed at the following URL: http://www.usaid.gov/business/small_business/vendordb.html.

Annual Reporting Burden:

Respondents: 351.

Total annual responses: 351.

Total annual hours requested: 87.75 hours.

Dated: January 11, 2006.
Joanne Paskar,
Chief, Information and Records Division, Office of Administrative Services, Bureau for Management.

[FR Doc. 06-447 Filed 1-17-06; 8:45 am]

BILLING CODE 6116-01-M